FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at http://www.ffiec.gov/nic/.

Unless otherwise noted, comments regarding each of these applications must be received at the Reserve Bank indicated or the offices of the Board of Governors not later than March 15, 2004.

A. Federal Reserve Bank of New York (Jay Bernstein, Bank Supervision Officer) 33 Liberty Street, New York, New York 10045-0001:

1. J.P. Morgan Chase & Co., New York, New York; to acquire and thereby merge with Bank One Corporation, Chicago, Illinois, and thereby indirectly acquire voting shares of Bank One, National Association, Dearborn, Michigan; Bank One Trust Company National Association, Columbus, Ohio; Bank One Delaware, National Association, Wilmington, Delaware; Bank One, National Association, Columbus, Ohio; Bank One, National Association, Chicago, Illinois.

In connection with this proposal, J.P. Morgan Chase & Co., has applied to acquire an option for up to 19.9 percent of Bank One Corporation, and Bank One Corporation has applied to acquire an option for 19.9 percent of J.P. Morgan, Chase & Co., and thereby indirectly acquire J.P. Morgan Chase Bank, New York, New York; Chase Manhattan Bank USA, National Association, Newark, Delaware, and J.P. Morgan Trust Company, National Association, Los Angeles, California.

B . Federal Reserve Bank of Atlanta (Sue Costello, Vice President) 1000 Peachtree Street, N.E., Atlanta, Georgia 30303:

1. Privee Financial, Inc., Privee LLC, and Remo DuQuoin LLC, all of Miami, Florida; to become bank holding companies by acquiring 100 percent of the voting shares of The Hemisphere National Bank, Miami, Florida.

C. Federal Reserve Bank of St. Louis (Randall C. Sumner, Vice President) 411 Locust Street, St. Louis, Missouri 63166-2034:

1. Patriot of Tennessee Corporation, Millington, Tennessee; to become a bank holding company by acquiring 100 percent of the voting shares of Patriot Bank, Millington, Tennessee.

Board of Governors of the Federal Reserve System, February 12, 2004.
Robert deV. Frierson,
Deputy Secretary of the Board.

[FR Doc. 04-3551 Filed 2-18-04; 8:45 am]

BILLING CODE 6210-01-S